DEPARTMENT OF COMMERCE

National Oceanic and Atmospheric Administration

50 CFR Part 216

[Docket No. 080310408-8416-01]

RIN 0648-AW55

Marine Mammals; Subsistence Taking of Northern Fur Seals; Harvest Estimates

AGENCY: National Marine Fisheries Service (NMFS), National Oceanic and Atmospheric Administration (NOAA), Commerce.

ACTION: Notice of availability; request for comments.

SUMMARY: Pursuant to regulations governing the subsistence taking of northern fur seals, this document summarizes the annual fur seal subsistence harvests on St. George and St. Paul Islands (the Pribilof Islands) for 2005 to 2007 and proposes annual estimates of fur seal subsistence needs for 2008 through 2010 on the Pribilof Islands, AK. NMFS solicits public comments on the proposed estimates.

DATES: Written comments must be received at the address or fax number by July 3, 2008.

ADDRESSES: Send comments to Kaja Brix, Assistant Regional Administrator, Protected Resource Division, Alaska Region, NMFS, Attn: Ellen Sebastian. You may submit comments, identified by “RIN 0648 AW55” by any of the following methods:

Electronic Submissions: Submit electronic public comments via the Federal eRulemaking Portal: http://www.regulations.gov;

Mail: Kaja Brix, Assistant Regional Administration, Protected Resource Division, Alaska Region, NMFS, P.O. Box 21668, Juneau, AK 99802;

Hand Delivery to the Federal Building: 709 West 9th Street, Room 420A, Juneau, AK;

Fax: 907 586 7557, Attention: Ellen Sebastian.

Instructions: All comments received are a part of the public record and will generally be posted to http://www.regulations.gov without change. Do not submit Confidential Business Information or otherwise sensitive or protected information. NMFS will accept anonymous comments. Attachments to electronic comments must be in Microsoft Word, Excel, WordPerfect, or Adobe portable document file (pdf) file formats to be accepted.

FOR FURTHER INFORMATION CONTACT: Michael Williams, (907) 271-5006; Kaja Brix, (907) 586-7835; or Tom Eagle, (301) 713-2322, ext. 105.

SUPPLEMENTARY INFORMATION:

Electronic Access

An Environmental Impact Statement is available on the Internet at the following address: http://www.fakr.noaa.gov/protectedresources/seals/fur/eis/final0505.pdf.

Background

The subsistence harvest from the depleted stock of northern fur seals (Callorhinus ursinus), on the Pribilof Islands, AK, is governed by regulations found in 50 CFR part 216, subpart F. The purpose of these regulations, published under the authority of the Fur Seal Act (FSA), 16 U.S.C. 1151, et seq., and the Marine Mammal Protection Act (MMPA), 16 U.S.C. 1361, et seq., is to limit the take of fur seals to a level providing for the subsistence needs of the Pribilof residents, while restricting taking by sex, age, and season for herd conservation. To further minimize negative effects on the Pribilof Islands' fur seal population, the harvest has been limited to a 47-day season (June 23 to August 8).

There are several factors and conditions that affect the subsistence harvest of northern fur seals. Beginning in 2000, the take ranges have been discussed with each tribal government as part of the co-management relationship and agreement. Accurately predicting the annual subsistence needs of the Pribilof communities has been one of practical and social difficulties; the process to meet the take range regulation has resulted in acceptance of the ranges first established in 1987. These levels provide a degree of flexibility the communities feel comfortable with regarding changes and unanticipated needs within the community and the environment.

The variability of the harvest occurs for many reasons. Weather conditions and availability of animals varies annually. The availability of wage earning jobs reduces the time available for community members to hunt and harvest subsistence resources. Thus, hunters may be unavailable to hunt in certain years or have more financial resources to hunt in subsequent years or seasons for other marine mammals. The current timing restriction on the northern fur seal hunt overlaps with the local halibut fishing season, and many of the hunters are also fishermen. In addition, crab fishery rationalization and a renewal of the crab harvest in the Pribilof region has provided local job opportunities that may extend into the spring hunting season for Steller sea lions. The level of Steller sea lion hunting success in the spring influences subsequent northern fur seal harvesting. Thus both Steller sea lions and northern fur seals combine to meet the subsistence needs of the local communities, with northern fur seals providing the more seasonal, but reliable source of the two species. Alaskan communities such as those of St. Paul and St. George Islands, rely on marine mammals as a major food source and cultural foundation of the communities. The harvest of juvenile male northern fur seals has occurred for well over 200 years and the biological implications are reasonably understood. Subsistence harvests under the current regulations are 10 percent or less than the commercial harvests during the past 50 years.

Pursuant to the regulations governing the taking of fur seals for subsistence purposes, NMFS must publish a summary of the fur seal harvest for the previous 3-year period and an estimate of the number of seals expected to be taken in the subsequent 3-year period to meet the subsistence needs of the Aleut residents of the Pribilof Islands.

Summary of Harvest Operations and Monitoring 2005 to 2007

The annual harvests were conducted in the established manner and employed the standard methods required under regulations at 50 CFR 216.72. NMFS personnel, a contract veterinarian, and tribal government staff monitored the harvest and communicated to further improve the efficiency of the annual harvest and full utilization of the animals taken. Annual northern fur seal harvest reports are received from the tribal governments of both islands and from a contract veterinarian for St. Paul.

The reported male northern fur seal subsistence harvests for St. Paul from 2005 to 2007 were 466, 396, and 272 respectively (Lestenkof et al., 2006; Lestenkof and Zavadil, 2006; Lestenkof and Zavadil, 2007), and for St. George from 2005 to 2007 were 139, 212, and 206, respectively (Lestenkof et al., 2006, Malavansky and Malavansky, 2006; Malavansky, 2007). The number of male northern fur seals harvested on St. Paul Island from 1986 to 2007 ranged from 272 to 1,710, and the number harvested on St. George Island from 1986 to 2007 ranged from 92 to 319 seals. The average number of male seals harvested during the past 10 years on St. Paul and St. George Islands, respectively, has been 690 seals (range: 269 to 1,297) and 181 seals (range: 121 to 256), (Table 1).

The accidental harvest of young female fur seals has occurred intermittently during the male harvest. The regulations call for termination of the annual harvest on August 8 of each year to reduce the probability of the accidental killing of females to the lowest level practical. Thirty-two females on St. Paul and four females on St. George have been accidentally killed, since 1987. The average accidental killing of females on St. Paul and St. George Islands during the last 10 years is 2 and less than l, respectively.

Under section 119 of the Marine Mammal Protection Act, cooperative agreements were signed with St. Paul in 2000 and with St. George in 2001 for the cooperative management of subsistence uses of northern fur seals and Steller sea lions. The processes defined in the cooperative agreements have facilitated a more collaborative working relationship between NMFS and tribal authorities. This has led to more coordinated efforts by the tribal governments of both islands to promote full utilization of inedible seal parts for traditional arts, crafts, and other uses permitted under regulations at 50 CFR 216.73. The result has been an expanded use of these materials by the Aleut residents and increased fulfillment of the non-wasteful harvest requirements.

TABLE 1. SUBSISTENCE HARVEST LEVELS FOR JUVENILE MALE NORTHERN FUR SEALS ON THE PRIBILOF ISLANDS, 1986-2007
Year | Expected Take Ranges: St. Paul | Expected Take Ranges: St. George | Actual Harvest Levels: St. Paul | Actual Harvest Levels: St. George
1986 | 2,400-8,000 | 800-1,800 | 1,299 | 124
1987 | 1,600-2,400 | 533-1,800 | 1,704 | 92
1988 | 1,800-2,200 | 600-740 | 1,145 | 113
1989 | 1,600-1,800 | 533-600 | 1,340 | 181
1990 | 1,145-1,800 | 181-500 | 1,077 | 164
1991 | 1,145-1,800 | 181-500 | 1,644 | 281
1992 | 1,645-2,000 | 281-500 | 1,480 | 194
1993 | 1,645-2,000 | 281-500 | 1,518 | 319
1994 | 1,645-2,000 | 281-500 | 1,615 | 161
1995 | 1,645-2,000 | 281-500 | 1,263 | 259
1996 | 1,645-2,000 | 281-500 | 1,588 | 232
1997 | 1,645-2,000 | 300-500 | 1,153 | 227
1998 | 1,645-2,000 | 300-500 | 1,297 | 256
1999 | 1,645-2,000 | 300-500 | 1,000 | 193
2000 | 1,645-2,000 | 300-500 | 754 | 121
2001 | 1,645-2,000 | 300-500 | 595 | 184
2002 | 1,645-2,000 | 300-500 | 646 | 202
2003 | 1,645-2,000 | 300-500 | 522 | 132
2004 | 1,645-2,000 | 300-500 | 493 | 123
2005 | 1,645-2,000 | 300-500 | 466 | 139
2006 | 1,645-2,000 | 300-500 | 396 | 212
2007 | 1,645-2,000 | 300-500 | 269 | 206

Estimate of Subsistence Need for the Period 2008 to 2010

The projected subsistence harvest estimates are given as a range, the lower end of which may be exceeded if NMFS is given notice and the Assistant Administrator for Fisheries, NOAA, determines that the annual subsistence needs of the Pribilof Aleuts have not been satisfied. Conversely, the harvest can be terminated before the lower end of the range is reached if the annual subsistence needs of the Pribilof residents are determined to have been met or the harvest has been conducted in a wasteful manner.

For the 3-year period, 2008 to 2010, NMFS proposes no change to the past and current ranges of 1,645-2,000 for St. Paul Island and 300-500 for St. George Island. Retaining these levels will provide adequate flexibility and adaptive management of the subsistence harvest through the co-management process.

As described earlier in this document, if the Aleut residents of either island reach the lower end of this yearly harvest estimate and have unmet subsistence needs and no indication of waste, they may request an additional number of seals up to the upper limit of the respective harvest estimates. The residents of St. George and St. Paul Islands may substantiate any additional need for seals by submitting in writing the information upon which they base their decision that subsistence needs are unfulfilled. The regulations at 50 CFR 216.72(e)(1) and (3) require a suspension of the fur seal harvest for up to 48 hours once the lower end of the estimated harvest level is reached. The suspension is to last no more than 48 hours, followed either by a finding that the subsistence needs have been met or by a revised estimate of the number of seals necessary to satisfy the Aleuts' subsistence needs. The harvest may also be suspended if the harvest has been conducted in a wasteful manner. NMFS seeks public comments on the proposed estimates.

The harvest of fur seals is anticipated to be non-wasteful and in compliance with the regulations specified at 50 CFR 216.72 which detail the restrictions and harvest. NMFS will continue to monitor the harvest on St. Paul Island and St. George Islands during 2008 to 2010.

Classification

National Environmental Policy Act

NMFS prepared an Environmental Impact Statement (EIS) evaluating the impacts on the human environment of the subsistence harvest on northern fur seals. The Final EIS, which is available on the Internet (see Electronic Access) was subjected to public review (69 FR 53915, September 3, 2004), and the comments were incorporated into the final EIS.

Executive Order 12866 and Regulatory Flexibility Act

This proposed rule has been determined to be not significant rule under Executive Order (E.O.) 12866. The regulations are not likely to result in (1) an annual effect on the economy of $100 million or more; (2) a major increase in costs or prices for consumers, individual industries, Federal, state, or local government agencies, or geographic regions; or (3) a significant adverse effect on competition, employment, investment, productivity, innovation, or on the ability of U.S.-based enterprises to compete with foreign-based enterprises in domestic or export markets. The Chief Counsel for Regulation, Department of Commerce, certified to the Chief Counsel for Advocacy of the Small Business Administration that this proposed action would not have a significant economic impact on a substantial number of small entities. Because the harvest of northern fur seals on the Pribilof Islands, AK, is for subsistence purposes only, the estimate of subsistence need would not have an economic effect on any small entities. Therefore, a regulatory flexibility analysis was not prepared.

Paperwork Reduction Act

This proposed action does not require the collection of information.

Executive Order 13132-Federalism

This proposed action does not contain policies with federalism implications sufficient to warrant preparation of a federalism assessment under E.O. 13132 because this action does not have substantial direct effects on the states, on the relationship between the national government and the states, or on the distribution of power and responsibilities among the various levels of government. Nonetheless, NMFS worked closely with local governments in the Pribilof Islands, and these estimates of subsistence needs were prepared by the local governments in St. Paul and St. George, with assistance from NMFS officials.

Executive Order 13175-Native Consultation

Executive Order 13175 of November 6, 2000 (25 U.S.C. 450 Note), the executive Memorandum of April 29, 1994 (25 U.S.C. 450 note), and the American Indian Native Policy of the U.S. Department of Commerce (March 30, 1995) outline the responsibilities of the National Marine Fisheries Service in matters affecting tribal interests. Section 161 of Public Law 108-100 (188 Stat. 452) as amended by section 518 of Public Law 108-447 (118 Stat. 3267), extends the consultation requirements of E.O. 13175 to Alaska Native corporations. NMFS has contacted the tribal governments of St. Paul and St. George Islands and their respective local Native corporations (Tanadgusix and Tanaq) about setting the next three years harvest estimates and received their input.

Dated: May 27, 2008.
Samuel D. Rauch III,
Deputy Assistant Administrator for Regulatory Programs, National Marine Fisheries Service.

[FR Doc. E8-12323 Filed 6-2-08; 8:45 am]

BILLING CODE 3510-22-S